DEPARTMENT OF TRANSPORTATION

Office of the Secretary

49 CFR Part 1

[Docket No. OST-1999-6189]

RIN 9991-AA34

Removal of References to the Transportation Security Administration and the United States Coast Guard

AGENCY: Office of the Secretary, DOT.

ACTION: Final rule.

SUMMARY: The Office of the Secretary of Transportation (OST) is updating the regulatory language to reflect the departures of the Transportation Security Administration and the United States Coast Guard to the new Department of Homeland Security, and to change the name of the Urban Mass Transportation Administration (UMTA) to the Federal Transit Administration (FTA).

EFFECTIVE DATE: June 10, 2003.

FOR FURTHER INFORMATION CONTACT: Jennifer S. Thibodeau, Office of the Assistant General Counsel for Regulation and Enforcement, U.S. Department of Transportation, 400 Seventh St., SW., Room 10424, Washington, DC 20590, (202) 366-4723.

SUPPLEMENTARY INFORMATION: This final rule deletes references to the Transportation Security Administration (TSA) and the United States Coast Guard (USCG) in 49 CFR part 1 that concern delegations, organization, and duties within the Department of Transportation. It also deletes responsibilities and duties to TSA and USCG. These two agencies transferred with other agencies to form the new Department of Homeland Security, and are no longer part of the Department of Transportation. Additionally, this rule is changing the name of the Urban Mass Transit Administration (UMTA) to the Federal Transit Administration (FTA) to properly reflect the agency's name.

This final rule does not impose substantive requirements. It simply updates the CFR to reflect the departures of TSA and USCG from the Department of Transportation. The final rule is technical in nature and relates only to Departmental management, organization, procedure, and practice. Therefore, the Department has determined that notice and comment are unnecessary and that the rule is exempt from prior notice and comment requirements under 5 U.S.C. 553(b)(3)(A). These changes will not have substantive impact. The Department does not expect to receive substantive comments on the rule. Therefore, the Department finds that there is good cause under 5 U.S.C. 553 (d)(3) to make this rule effective less than 30 days after publication in the Federal Register.

Regulatory Analyses and Notices

A. Executive Order 12866 and DOT Regulatory Policies and Procedures

This final rule is not considered a significant regulatory action under Executive Order 12866 and the Regulatory Policies and Procedures of the Department of Transportation (44 FR 11034). There are no costs associated with this rule.

B. Executive Order 13132

This final rule has been analyzed in accordance with the principles and criteria contained in Executive Order 13132 (“Federalism”). This final rule does not adopt any regulation that: (1) Has substantial direct effects on the States, the relationship between the national government and the States, or the distribution of power and responsibilities among the various levels of government; (2) imposes substantial direct compliance costs on State and local governments; or (3) preempts State law. Therefore, the consultation and funding requirements of Executive Order 13132 do not apply.

C. Executive Order 13084

This final rule has been analyzed in accordance with the principles and criteria contained in Executive Order 13084 (“Consultation and Coordination with Indian Tribal Governments”). Because this final rule does not significantly or uniquely affect the communities of the Indian tribal governments and does not impose substantial direct compliance costs, the funding and consultation requirements of Executive Order 13084 do not apply.

D. Regulatory Flexibility Act

The Regulatory Flexibility Act (5 U.S.C. 601 et seq.) requires an agency to review regulations to assess their impact on small entities unless the agency determines that a rule is not expected to have a significant impact on a substantial number of small entities. This statute is not applicable because there was no issuance of a notice of proposed rulemaking (NPRM); however, I hereby certify this final rule, which amends the CFR to reflect the departure of TSA and USCG from the Department of Transportation to the new Department of Homeland Security, will not have a significant economic impact on a substantial number of small businesses.

E. Paperwork Reduction Act

This rule contains no information collection requirements under the Paperwork Reduction Act of 1995 (44 U.S.C. 3501-3520).

F. Unfunded Mandates Reform Act of 1995

The Department has determined that the requirements of Title II of the Unfunded Mandates Reform Act of 1995 do not apply to this rulemaking.

G. Environmental Impact

Because this rule concerns the updating of CFR provisions to reflect the departure of TSA and USCG from the Department of Transportation, this final rule is not a major OST action requiring the preparation of an environmental impact statement or environmental assessment.

List of Subjects in 49 CFR Part 1

Authority delegations, Organization and functions.

For the reasons set out in the preamble, the Department of Transportation amends 49 CFR part 1 as follows:

PART 1—ORGANIZATION AND DELEGATION OF POWERS AND DUTIES

1. Revise the authority citation for part 1 to read as follows:

Authority: 49 U.S.C. 322; 46 U.S.C. 2104(a); 28 U.S.C. 2672; 31 U.S.C. 3711(a)(2); Pub. L. 101-552, 104 Stat. 2736; Pub. L. 106-159, 113 Stat. 1748; Pub. L. 107-71, 115 Stat. 597; Pub. L. 107-295, 116 Stat. 2064.

2. In § 1.2 remove paragraphs (a) and (l), redesignate existing paragraphs (b) through (k) as (a) through (j), and revise new paragraph (e) to read as follows:

§ 1.2 Definitions.

* * * * *

(e) The Federal Transit Administrator.

* * * * *

3. In § 1.3 remove paragraphs (b)(1) and (b)(12), redesignate existing paragraphs (b)(2) through (11) as (b)(1) through (10), and revise new paragraph (b)(5) to read as follows:

§ 1.3 Organization of the Department.

* * * * *

(b) * * *

(5) The Federal Transit Administration, headed by the Administrator.

* * * * *

4. In § 1.4 remove paragraphs (b) and (n), redesignate existing paragraphs (c) through (m) as (b) through (l), and revise new paragraph (f) introductory text to read as follows:

§ 1.4 General responsibilities.

* * * * *

(f) The Federal Transit Administration. Is responsible for:

* * * * *

5. In § 1.22 revise paragraph (d) to read as follows:

§ 1.22 Structure.

* * * * *

(d) Office of the General Counsel. This Office is composed of the Offices of Environmental, Civil Rights, and General Law; International Law; Litigation; Legislation; Regulation and Enforcement; and Aviation Enforcement and Proceedings.

* * * * *

6. Amend § 1.23 by revising paragraph (c) to read as follows:

§ 1.23 Spheres of primary responsibility.

* * * * *

(c) General Counsel. Legal services as the chief legal officer of the Department, legal advisor to the Secretary and the Office of the Secretary; final authority within the Department on questions of law; professional supervision, including coordination and review, over the legal work of the legal offices of the Department; drafting of legislation and review of legal aspects of legislative matters; point of coordination for the Office of the Secretary and Department Regulations Council; advice on questions of international law; advice and assistance with respect to uniform time matters; ensures uniform departmental implementation of the Freedom of Information Act (5 U.S.C. 552); responds to requests for records of the Office of the Secretary including the Office of the Inspector General, under that statute; review and final action on applications for reconsideration of initial decisions not to disclose unclassified records of the Office of the Secretary requested under 5 U.S.C. 552(a)(3); promotion and coordination of efficient use of Department legal resources; recommendation, in conjunction with the Assistant Secretary for Administration, of legal career development programs within the Department.

6a. Amend § 1.44 by revising paragraph (e)(8) to read as follows, remove paragraph (m), and redesignate existing paragraphs (n) through (r) as (m) through (q):

§ 1.44 Reservation of authority.

* * * * *

(e) * * *

(8) Authority to develop, coordinate, and issue wage schedules under the Federal Wage system.

* * * * *

7. In § 1.45, remove paragraph (c)(1)(i), redesignate existing paragraphs (c)(1)(ii) through (ix) as (c)(1)(i) through (viii), and revise new paragraph (c)(1)(iv) to read as follows;

§ 1.45 Delegations to all Administrators.

* * * * *

(c) * * *

(1) * * *

(iv) Federal Transit Administration;

* * * * *

7a. Remove and reserve § 1.46.

8. In § 1.48 revise paragraph (c)(19)(i) to read as follows:

§ 1.48 Delegations to Federal Highway Administrator.

* * * * *

(c) * * *

(19) * * *

(i) Except sections 165 and 531 as they relate to matters within the primary responsibility of the Federal Transit Administrator; 105(f), 413; 414(b)(1) and (2); 421, 426, and title III; and

* * * * *

9. In § 1.51 revise the title and introductory text to read as follows:

§ 1.51 Delegations to Federal Transit Administrator.

The Federal Transit Administrator is delegated authority to exercise the functions vested in the Secretary by:

* * * * *

10. In § 1.57 remove paragraphs (e) and (f) and redesignate existing paragraphs (g) through (s) as (e) through (q).

10a. Amend § 1.59 by revising paragraph (b)(8) to read as follows:

§ 1.59 Delegations to the Assistant Secretary for Administration.

* * * * *

(b) * * *

(8) Develop, coordinate, and issue wage schedules for Department employees under the Federal Wage System.

* * * * *

11. In § 1.65 remove paragraph (b)(2) and redesignate existing paragraphs (b)(3) and (4) as (b)(2) and (3); and remove paragrpah (c)(2) and redesignate existing paragraphs (c)(3) and (4) as (c)(2) and (3).

12. In § 1.66 revise paragraph (aa)(1) to read as follows, remove paragraphs (bb) and (cc) and redesignate existing paragraphs (dd) through (ff) as (bb) through (dd).

§ 1.66 Delegations to Maritime Administrator.

* * * * *

(aa) * * *

(1) The authority to process applications for the issuance, transfer, or amendment of a license for the construction and operation of a deepwater port (33 U.S.C. 1503(bb)).

* * * * *

13. In § 1.70 remove paragraph (k) and redesignate paragraphs (l) through (v) as (k) through (u).

14. In Appendix A to Part 1 remove “2. Chief Counsel, U.S. Coast Guard.”, redesignate “3. Chief Counsels” as 2., and amend the third paragraph of newly designated 2. (b) to read as follows:

Appendix A to Part 1—Delegations and Redelegations by Secretarial Officers

* * * * *

2. Chief Counsels. The General Counsel has delegated to the Chief Counsels the authority delegated to the General Counsel by authority delegated to the General Counsel by Amendment 1-41 to part 1 of title 49, Code of Federal Regulations, 35 FR 17653, November 17, 1970, as follows:

* * * * *

The Chief Counsels of the Federal Aviation Administration, Federal Highway Administration, Federal Railroad Administration, National Highway Traffic Safety Administration, Federal Transit Administration, the St. Lawrence Seaway Development Corporation, Maritime Administration, and Research and Special Programs Administration are hereby authorized to approve the sufficiency of the title to land being acquired by purchase of condemnation by the United States for the use of their respective organizations. This delegation is subject to the limitations imposed by the Assistant Attorney General, Land and Natural Resources Division, in his delegation to the Department of Transportation. Redelegation of this authority may only be made by the Chief Counsels to attorneys within their respective organizations.

* * * * *

Issued in Washington, DC on this 28th day of May, 2003.
Norman Mineta,
Secretary of Transportation.

[FR Doc. 03-14438 Filed 6-9-03; 8:45 am]

BILLING CODE 4910-62-M